DEPARTMENT OF TRANSPORTATION

National Highway Traffic Safety Administration

[Docket No. NHTSA-2024-0007; Notice 1]

FCA US LLC, Receipt of Petition for Decision of Inconsequential Noncompliance

AGENCY: National Highway Traffic Safety Administration (NHTSA), Department of Transportation (DOT).

ACTION: Receipt of petition.

SUMMARY: FCA US LLC (FCA) has determined that the pedestrian alert rear speakers and service parts (“Quiet Vehicle Protection Module” or “QVPM”) for certain MY 2022-2024 Jeep Grand Cherokee motor vehicles do not fully comply with Federal Motor Vehicle Safety Standard (FMVSS) No. 141, Minimum Sound Requirements for Hybrid and Electric Vehicles. FCA filed two noncompliance reports dated October 26, 2023, and subsequently petitioned NHTSA (the “Agency”) on November 16, 2023, for a decision that the subject noncompliance is inconsequential as it relates to motor vehicle safety. This document announces receipt of FCA's petition.

DATES: Send comments on or before August 26, 2024.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Frederick Smith, General Engineer, NHTSA, Office of Vehicle Safety Compliance, (202) 366-7487.

SUPPLEMENTARY INFORMATION:

I. Overview: FCA determined that the pedestrian alert rear speakers installed in certain MY 2022-2024 Jeep Grand Cherokee motor vehicles and several QVPM rear speaker service parts do not fully comply with paragraph S5.4 and Table 7 of FMVSS No. 141, Minimum Sound Requirements for Hybrid and Electric Vehicles (49 CFR 571.141).

FCA filed two noncompliance reports (Recalls 23V-721 and 23E-083) for the non-compliant pedestrian alert speakers on October 26, 2023, pursuant to 49 CFR part 573, Defect and Noncompliance Responsibility and Reports. FCA petitioned NHTSA on November 16, 2023, for an exemption from the notification and remedy requirements of 49 U.S.C. chapter 301 on the basis that the noncompliances are inconsequential as it relates to motor vehicle safety, pursuant to 49 U.S.C. 30118(d) and 30120(h) and 49 CFR part 556, Exemption for Inconsequential Defect or Noncompliance.

This notice of receipt of FCA's petition is published under 49 U.S.C. 30118 and 30120 and does not represent any agency decision or another exercise of judgment concerning the merits of the petition.

II. Vehicles Involved: Approximately 72 QVPMs, manufactured between May 01, 2021, and October 15, 2023, and approximately 49,654 MY 2022-2024 Jeep Grand Cherokee motor vehicles, manufactured between July 23, 2021, and October 18, 2023, were reported by the manufacturer.

III. Noncompliance: FCA explains that the subject vehicles do not meet the minimum volume change requirements to signify acceleration and deceleration. Specifically, the sound produced by the subject vehicle changes by less than 3 decibels (dB) when operating between 20 km/h and 30 km/h.

IV. Rule Requirements: Paragraph S5.4 and Table 7 of FMVSS No. 141 include the requirements relevant to this petition. The sound produced by the vehicle, as specified in paragraph S5, must change in volume between critical operating conditions, as outlined in Table 7 and calculated in paragraph S7.6 of FMVSS No. 141.

V. Summary of FCA's Petition: The following views and arguments presented in this section, “V. Summary of FCA's Petition,” are the views and arguments provided by FCA. They have not been evaluated by the Agency and do not reflect the views of the Agency. FCA describes the subject noncompliance and contends that the noncompliance is inconsequential as it relates to motor vehicle safety.

FCA explains that during certification testing, there was an issue capturing a portion of the sound curve at 20 km/h, which led to the maximum sound volume being missed.¹ As a result, the actual volume at 20 km/h exceeded the intended level. If the loudest data point had been captured, FCA says it would have revealed an excessive volume level at 20 km/h. In that case, FCA would have reduced the output to ensure compliance with the required 3 dB relative volume change between 20 and 30 km/h.

¹ See Figure 1 in FCA's petition for the measurement taken during certification testing.

On August 3, 2023, NHTSA notified FCA of the noncompliance found during testing of the MY 2023 Jeep Grand Cherokee. FCA conducted additional testing at various speeds: 11, 17, 18, 19, 20, 21, 22, 27, 28, 29, 30, 31, and 32 km/h. According to paragraph S5.4 and Table 7 of FMVSS No. 141, a 3 dB minimum relative volume change is required at each of the following intervals: between 0 km/h and 10 km/h, between 10 km/h and 20 km/h, and between 20 km/h and 30 km/h. However, S5.4 specifies that these changes be measured in accordance with paragraph S7.6 of FMVSS No. 141, which specifies that the 10 km/h should be measured at 111 km/h, the 20 km/h interval at 211 km/h, and the 30 km/h interval at 311 km/h. Thus, FCA suggests that, within the parameters of FMVSS No. 141, the 3 dB relative volume change can be measured with a vehicle speed difference ranging from as low as 8 km/h to as high as 12 km/h, depending on the chosen vehicle speed within the allowable range for each interval.

FCA adds that the subject vehicle consistently meets the minimum requirements for the two-band sum dB(A) sound pressure level. However, FCA clarifies that the reason for not meeting the minimum relative volume change requirement is the excessive sound level produced at 20 km/h.²

² See Figure 2 in FCA's petition.

After analyzing the data collected at the additional speeds, FCA compared the relative volume change between all speed combinations near 20 km/h and 30 km/h and graphed the results.³ According to FCA, the data demonstrates that the relative volume change between 18 km/h and 30 km/h exceeds 3 dB, and the relative volume change between 17 km/h and all five increments between 27 and 32 km/h falls between the range of 5.9 to 7.4.

³ See Figure 3 in FCA's petition.

FCA cites the FMVSS No. 141 final rule (81 FR 90416, December 14, 2016) and highlights the following points:

• According to FCA, NHTSA explained that the minimum relative volume change requirement was necessary because it enables pedestrians to determine if an EV or HV is accelerating or decelerating based on the increase or decrease in sound level emitted from the vehicle, just as they would be able to in the case of an ICE vehicle.

• FCA says NHTSA further explained that the relative volume change requirement will ensure a minimum sound level increase and decrease as a vehicle reaches each successive higher or lower speed operating condition, and NHTSA developed the speed intervals to incorporate flexibility. As FCA previously noted, the actual test procedure allows a 2 km/h variation at 10, 20, and 30 km/h, allowing for the relative volume change between speeds that are up to 12 km/h apart.

FCA asserts that the subject vehicles meet the intent of the minimum relative volume change requirement by providing the intended audible alert to pedestrians indicating that the vehicle speed is either increasing or decreasing.

FCA contends that while the subject vehicle's volume exceeds the 3 dB limit between 18 and 30 km/h, if this same 12 km/h were measured between 20 and 32 km/h, the vehicles would comply with FMVSS No. 118. Further, FCA asserts that when measured between 17 and 27 km/h, the relative volume change is nearly 6 dB, and it is nearly 7.5 dB between 17 and 30 km/h, which FCA believes is consistent with the intent of the standard.

Figure 2 of FCA's petition shows that the volume between 20 and 22 km/h exceeds the minimum requirement. FCA says that the remedy for the subject noncompliance is to reduce the volume emitted within the 20 to 22 km/h range, ensuring the vehicle is quieter at those speeds. The volume would not change at higher speeds and would maintain the same relative volume change but shifted to a slightly higher speed interval.

FCA contends that the proposed remedy will reduce the subject vehicle's noise level, making it less noticeable when traveling between 20 and 22 km/h. Additionally, FCA believes that the slight shift in the relative volume change speed range will be practically imperceptible to pedestrians.

FCA notes that it could not locate any prior petitions for inconsequential noncompliance relating to a safety recall due to the same or similar noncompliance with the relative volume change requirement, for its own vehicles or those of other automakers.

FCA states that it started vehicle production with compliant QVPM software on October 18, 2023. FCA is not aware of any crashes, injuries, or customer complaints associated with the subject noncompliance.

FCA concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that FCA no longer controlled at the time it determined that the noncompliance existed. However, any decision on this petition does not relieve vehicle distributors and dealers of the prohibitions on the sale, offer for sale, or introduction or delivery for introduction into interstate commerce of the noncompliant vehicles under their control after FCA notified them that the subject noncompliance existed.

(Authority: 49 U.S.C. 30118, 30120: delegations of authority at 49 CFR 1.95 and 501.8)

Otto G. Matheke, III,
Director, Office of Vehicle Safety Compliance.

[FR Doc. 2024-16480 Filed 7-25-24; 8:45 am]

BILLING CODE 4910-59-P